DEPARTMENT OF ENERGY

Idaho Operations Office

Chemicals Industry of the Future; Notice of Intent of Solicitation for Awards of Financial Assistance

AGENCY: Idaho Operations Office, DOE.

ACTION: Notice of intent of Solicitation for Financial Assistance Applications.

SUMMARY: The U.S. Department of Energy (DOE), Idaho Operations Office, will be soliciting applications for cost-shared research and development (R&D) of technologies that will reduce energy consumption, enhance economic competitiveness, and reduce environmental impacts of the Chemicals Industry. Approximately $3,000,000 in federal funding is expected to be available to fund the first twelve months of selected research projects. Subject to the availability of funds, approximately $6 million is planned to fund the remaining two years of the projects. DOE anticipates making 3 to 6 cooperative agreement awards each with a duration of three years or less. It is anticipated that in January, 2002, a full text for the solicitation will be made available at the Industry Interactive Procurement System (IIPS) Web site at: http://e-center.doe.gov: Applications are to be submitted via the IIPS Web site. Directions on how to apply and submit applications are detailed under the solicitation on the Web site.

FOR FURTHER INFORMATION CONTACT: Dallas Hoffer, Contracting Officer at hofferdl@id.doe.gov.

SUPPLEMENTARY INFORMATION: The solicitation will be issued in accordance with 10 CFR part 600.6(b). DOE is interested in projects that will:

1. Result in the formation of multi-disciplinary teams that will conduct research that will ultimately develop new, innovative enabling technologies, methodologies, and/or tools;

2. Have broad applicability to the chemical industry, and therefore, result in a collaborative of many chemical companies, and;

3. Demonstrate a large potential energy savings across the chemical industry.

A minimum of three industrial chemical companies must be involved. An “industrial chemical company” is defined as a private (profit or non-profit) organization that manufactures chemicals and allied products or provides products or services to such manufacturers. In addition to chemical and allied products manufacturers, raw material suppliers, equipment and technology suppliers, architectural and engineering companies, software and consulting firms, trade and professional associations, and research institutes that routinely conduct a minimum of 10% of their business as, with, or for Chemical Industry manufacturers, are within the scope of the definition. The involvement of National Laboratories and university R&D performers in any project team is also highly encouraged.

The statutory authority for this program is the U.S. Department of Energy Organization Act (Public Law 95-91) and the Energy Policy Act of 1992 (Public Law 102-486, as amended by Public Law 103-437).

Issued in Idaho Falls on September 13, 2001.
R. Jeffrey Hoyles,
Director, Procurement Services Division.

[FR Doc. 01-23426 Filed 9-19-01; 8:45 am]

BILLING CODE 6450-01-P